OFFICE OF MANAGEMENT AND BUDGET

Public Availability of Fiscal Year 2007 Agency Inventories Under the Federal Activities Inventory Reform Act

AGENCY: Office of Management and Budget, Executive Office of the President.

ACTION: Notice of Public Availability of Agency Inventory of Activities That Are Not Inherently Governmental and of Activities That Are Inherently Governmental.

SUMMARY: The Federal Activities Inventory Reform (FAIR) Act, Public Law 105-270, requires agencies to develop inventories each year of activities performed by their employees that are not inherently governmental—i.e., inventories of commercial activities. The FAIR Act further requires OMB to review the inventories in consultation with the agencies and publish a notice of public availability in the Federal Register after the consultation process is completed. In accordance with the FAIR Act, OMB is publishing this notice to announce the availability of inventories from the agencies listed below. These inventories identify both commercial activities and activities that are inherently governmental.

This is the second and final release of the FAIR Act inventories for FY 2007. Interested parties who disagree with the agency's initial judgment may challenge the inclusion or the omission of an activity on the list of activities that are not inherently governmental within 30 working days and, if not satisfied with this review, may appeal to a higher level within the agency.

The Office of Federal Procurement Policy has made available a FAIR Act User's Guide through its Internet site: http://www.whitehouse.gov/omb/procurement/fair-index.html. This User's Guide will help interested parties review FY 2007 FAIR Act inventories.

Paul A. Denett,
Administrator.

Second FAIR Act Release FY 2007
African Development Foundation | Mr. Larry Bevan, (202) 673-3916 x113, www.adf.gov.
American Battle Monuments Commission | Mr. Alan Gregory, (703) 696-6868, www.abmc.gov/other/fair.htm.
Arlington National Cemetery | Mr. Rory Smith, (703) 607-8561, www.arlingtoncemetery.org.
Armed Forces Retirement Home | Mr. Steven G. McManus, (202) 730-3533, www.afrh.gov.
Broadcasting Board of Governors | Ms. Cathy Brown, (202) 203-4608, www.bbg.gov.
Consumer Product Safety Commission | Mr. Edward Quist, (301) 504-7655, www.cpsc.gov.
Court Services and Offender Supervision Agency for the District of Columbia | Mr. James Williams, (202) 220-5707, www.csosa.gov.
Department of Defense | Ms. Monica Kelliher-Hamby, (703) 602-3666, web.lmi.org/fairnet.
Department of Defense (IG) | Mr. Stephen D. Wilson, (703) 604-8306, www.dodig.mil.
Department of Energy | Mr. Dennis O'Brien, (202) 586-1690, www.mbe.doe.gov/me2-1/a76/csa76.htm.
Department of Labor (IG) | Mr. David LeDoux, (202) 693-5138, www.oig.dol.gov/2006fair_act.htm.
Department of the Interior (IG) | Mr. Roy Kime, (202) 208-6232, www.oig.doi.gov.
Department of Transportation (IG) | Ms. Jacquelyn Weber, (202) 366-1495, www.oig.dot.gov.
Department of Veterans Affairs | Ms. Julie Plush, (202) 461-5810, www.va.gov/op3/.
Environmental Protection Agency (IG) | Mr. Michael J. Binder (202) 566-2617, www.epa.gov/oig.
Federal Mediation and Conciliation Service | Mr. Dan Ellerman, (202) 606-5460, www.fmcs.gov/internet.
Federal Election Commission | Ms. Tina VanBrakle, (202) 694-1006, www.fec.gov/pages/fair.shtml.
Federal Labor Relations Authority | Ms. Jill Crumpacker, (202) 218-7900, www.flra.gov.
Inter-American Foundation | Ms. Linda Kolko, (703) 306-4308, www.iaf.gov.
International Trade Commission | Mr. Stephen McLaughlin, (202) 205-3131, www.usitc.gov.
Merit Systems Protection Board | Mr. Wade Douglas, (202) 653-6772 x1118, www.mspb.gov.
National Endowment for the Humanities | Mr. Barry Maynes, (202) 606-8233, www.neh.gov.
National Gallery of Art | Mr. William W. McClure, (202) 312-2760, www.nga.gov.
National Labor Relations Board | Ms. Demetria Gregory, (202) 273-0054, www.nlrb.gov.
National Labor Relations Board (IG) | Mr. Lester Heltzer, (202) 273-1067, www.nlrb.gov.
National Science Foundation | Mr. Joseph Burt, (703) 292-8108, www.nsf.gov/publications.
National Transportation Safety Board | Ms. Carol Belovitch, (202) 314-6232, www.ntsb.gov/info/fair_act_2007.htm.
Nuclear Regulatory Commission | Ms. Mary Lynn Scott, (301) 415-7305, www.nrc.gov.
Nuclear Regulatory Commission OIG | Mr. David Lee, (301) 415-5930, www.nrc.gov/insp-gen/fairact-inventory.html.
Office of Management and Budget | Ms. Lauren Wright, (202) 395-3970, www.whitehouse.gov/omb/procurement/fair/notices_avail.html.
Office of National Drug Control Policy | Mr. Daniel Petersen, (202) 395-6745, www.whitehousedrugpolicy.gov.
Office of the U.S. Trade Representative | Ms. Susan Buck, (202) 395-9412, www.ustr.gov.
Peace Corps | Ms. Caroline Allen, (202) 962-1096, www.peacecorps.gov/index.cfm?shell=pchq.policies.docs.
Railroad Retirement Board (IG) | Mr. William Tebbe, (312) 751-4350, www.rrb.gov/mep/oig.asp.
Securities and Exchange Commission | Mr. Jeffrey Risinger, (202) 551-7446, www.sec.gov.
Selective Service System | Mr. Calvin Montgomery, (703) 605-4038, www.sss.gov.
Small Business Administration (IG) | Mr. Robert Fisher, (202) 205-6583, www.sba.gov/ig/OIG_Fair.html.
U.S. Agency for International Development | Ms. Deborah Lewis, (202) 712-0936, www.usaid.gov/business/regulations/fair/.
U.S. Agency for International Development (IG) | Mr. Robert Ross, (202) 712-1331, www.usaid.gov/oig/public/public1.htm.
U.S. Patent and Trademark Office | Ms. Delores Padgett, (571) 272-6738, www.uspto.gov.
U.S. Trade Development Agency | Ms. Carolyn Hum, (703) 875-4357, www.tda.gov.

[FR Doc. E8-15737 Filed 7-9-08; 8:45 am]

BILLING CODE 3110-01-P